DEPARTMENT OF ENERGY

Federal Energy Regulatory Commission

Combined Notice of Filings

Take notice that the Commission has received the following Natural Gas Pipeline Rate and Refund Report filings:

Filings Instituting Proceedings

Docket Numbers: RP15-267-000.

Applicants: Cimarron River Pipeline, LLC.

Description: § 4(d) rate filing per 154.204: Fuel Tracker—Seasonal Change to be effective 1/18/2015.

Filed Date: 12/18/14.

Accession Number: 20141218-5120.

Comments Due: 5 p.m. ET 12/30/14.

Docket Numbers: RP15-234-000.

Applicants: Millennium Pipeline Company, LLC.

Description: Motion to Intervene by ConocoPhillips Company under RP15-234.

Filed Date: 12/19/14.

Accession Number: 20141219-5375.

Comments Due: 5 p.m. ET 12/31/14.

Docket Numbers: RP15-268-000.

Applicants: WBI Energy Transmission, Inc.

Description: § 4(d) rate filing per 154.204: Negotiated Rate Agreement—MDU to be effective 12/19/2014.

Filed Date: 12/19/14.

Accession Number: 20141219-5095.

Comments Due: 5 p.m. ET 12/31/14.

Docket Numbers: RP15-269-000.

Applicants: NGO Transmission, Inc.

Description: § 4(d) rate filing per 154.204: NGO Transmission, Inc.—Negotiated Rate Filing to be effective 1/1/2015.

Filed Date: 12/19/14.

Accession Number: 20141219-5149.

Comments Due: 5 p.m. ET 12/31/14.

Docket Numbers: RP15-270-000.

Applicants: Dominion Cove Point LNG, LP.

Description: § 4(d) rate filing per 154.204: DCP—December 19, 2014 Non-Conforming Service Agreement to be effective 1/20/2015.

Filed Date: 12/19/14.

Accession Number: 20141219-5204.

Comments Due: 5 p.m. ET 12/31/14.

Docket Numbers: RP15-271-000.

Applicants: Columbia Gas Transmission, LLC.

Description: § 4(d) rate filing per 154.204: Non-Conforming Service Agmt—PacSum to be effective 1/1/2015.

Filed Date: 12/19/14.

Accession Number: 20141219-5280.

Comments Due: 5 p.m. ET 12/31/14.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP14-148-002.

Applicants: Wyoming Interstate Company, L.L.C.

Description: Compliance filing per 154.203: Rate Case Settlement Third Compliance Filing in Docket No. RP13-184, to be effective 2/1/2015.

Filed Date: 12/19/14.

Accession Number: 20141219-5214.

Comments Due: 5 p.m. ET 12/31/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2014.
Nathaniel J. Davis, Sr.,
Deputy Secretary.

[FR Doc. 2014-30624 Filed 12-30-14; 8:45 am]

BILLING CODE 6717-01-P